FEDERAL ELECTION COMMISSION

Sunshine Act Meetings

AGENCY: Federal Election Commission.

DATE AND TIME: Thursday, November 17, 2016 at 10:00 a.m.

PLACE: 999 E Street NW., Washington, DC, (Ninth Floor).

STATUS: This meeting will be open to the public.

ITEMS TO BE DISCUSSED:

Draft Advisory Opinion 2016-16: Gary Johnson 2012

Draft Advisory Opinion 2016-17: Libertarian Party of Michigan Executive Committee, Inc.

Draft Advisory Opinion 2016-18: Ohio Green Party

Draft Advisory Opinion 2016-19: Libertarian Party of Colorado

Draft Advisory Opinion 2016-20: Christoph Mlinarchik, JD, CFCM

Draft Advisory Opinion 2016-21: Great America PAC

Proposed Amendments to Directive 52

Proposed Final Audit Report the Utah Republican Party (A13-16)

Management and Administrative Matters

Individuals who plan to attend and require special assistance, such as sign language interpretation or other reasonable accommodations, should contact Shelley E. Garr, Deputy Secretary, at (202) 694-1040, at least 72 hours prior to the meeting date.

PERSON TO CONTACT FOR INFORMATION: Judith Ingram, Press Officer, Telephone: (202) 694-1220.

Shawn Woodhead Werth,
Secretary and Clerk of the Commission.

[FR Doc. 2016-27621 Filed 11-14-16; 11:15 am]

BILLING CODE 6715-01-P